DEPARTMENT OF COMMERCE

Bureau of Industry and Security

15 CFR Part 744

[Docket No. 041004276-4276-01]

RIN 0694-AC98

Termination of Certain Emergencies With Respect to Yugoslavia and Related Removal of Restrictions on Transactions With Persons Identified by the Bracketed Initials [FRYM] Under the Export Administration Regulations

AGENCY: Bureau of Industry and Security, Commerce.

ACTION: Final rule.

SUMMARY: In this rule, the Bureau of Industry and Security amends the Export Administration Regulations to delete the section that sets forth license requirements for exports and reexports to designated persons identified by the bracketed initials [FRYM]. The Department of the Treasury, Office of Foreign Assets Control (OFAC) used the bracketed initials [FRYM] to identify certain persons on the list of Specially Designated Nationals and Blocked Persons. OFAC discontinued the use of those bracketed initials following the termination of certain national emergencies with respect to Yugoslavia.

DATES: This rule is effective November 12, 2004.

ADDRESSES: Although there is no public comment period, written comments may be sent to Sheila Quarterman, Office of Exporter Services, Regulatory Policy Division, Bureau of Industry and Security, Department of Commerce, P.O. Box 273, Washington, DC 20044 or to e-mail address squarter@bis.doc.gov.

FOR FURTHER INFORMATION CONTACT: Joan Roberts, Director, Foreign Policy Division, Office of Nonproliferation and Treaty Compliance, Bureau of Industry and Security, Department of Commerce, P.O. Box 273, Washington, DC 20044; telephone: (202) 482-4252, or e-mail: jroberts@bis.doc.gov.

SUPPLEMENTARY INFORMATION:

Background

This rule amends the Export Administration Regulations (EAR) by deleting section 744.16 in conformance with the President's Executive Order 13304 of May 29, 2003, which, among other actions, terminated certain national emergencies with respect to Yugoslavia that had been declared in Executive Order 13088 of June 9, 1998, and rescinded Executive Order 13192 of January 17, 2001. Pursuant to these Executive Orders, section 744.16 has required a license for exports and reexports by U.S. persons of any item subject to the EAR to persons identified by the bracketed initials [FRYM] on the list of Specially Designated Nationals and Blocked Persons maintained by the Department of the Treasury's Office of Foreign Assets Control (OFAC) and found at 31 CFR Chapter V (Specially Designated Nationals List).

Pursuant to Executive Order 13192, restrictions had been imposed on transactions with (a) former Yugoslav president Slobodan Milosevic and his close allies, (b) certain persons under indictment by the International Criminal Tribunal for the former Yugoslavia, (c) persons attempting to maintain or reestablish illegitimate control over the former Yugoslavia, (d) persons providing support to the persons mentioned above and (e) persons owned or controlled by or acting on behalf of any persons mentioned above. These persons were identified by the bracketed initials [FRYM] on the list of Specially Designated Nationals and Blocked Persons maintained by the Department of the Treasury's Office of Foreign Assets Control (OFAC) and found at 31 CFR Chapter V (Specially Designated Nationals List).

At the same time that Executive Order 13304 terminated the Yugoslav emergencies, it clarified the scope of and took additional measures concerning a separate national emergency declared with respect to the Western Balkans in Executive Order 13219 of June 26, 2001, pursuant to which restrictions had been placed on transactions with persons threatening the peace or diminishing the stability of the Western Balkans region. Persons subject to the imposition of sanctions under Executive Order 13219, as modified by Executive Order 13304, are identified by the bracketed acronym [BALKANS] on the Specially Designated Nationals List.

Executive Order 13304 extended the restrictions imposed by Executive Order 13219 (relating to stability in the Western Balkans) to include, among others, persons under indictment by the International Criminal Tribunal for the former Yugoslavia that were previously included within the scope of the 1998 emergency. As a result, certain persons previously identified by the bracketed initials [FRYM] are now identified by the bracketed acronym [BALKANS] on the Specially Designated Nationals List. Pursuant to Executive Orders 13304 and 13219, OFAC administers a sanctions regime against persons threatening the peace or diminishing the stability of the Western Balkans as well as persons indicted by the Criminal Tribunal for the Former Yugoslavia under parts 586 and 587 of the OFAC regulations (31 CFR 586 and 587). This rule removes outdated references to the individuals identified by the [FRYM] designation by deleting section 744.16 from the EAR. No license requirements under the EAR apply specifically to individuals with the [BALKANS] designation on the Specially Designated Nationals List.

This rule also removes a reference to section 744.16 in section 744.1 of the EAR.

Although the Export Administration Act expired on August 20, 2001, Executive Order 13222 of August 17, 2001 (3 CFR, 2001 Comp., p. 783 (2002)), as extended by the Notice of August 6, 2004 (69 FR 48763, August 10, 2004), continues the Regulations in effect under the International Emergency Economic Powers Act.

Rulemaking Requirements

1. This final rule has been determined to be not significant for purposes of E.O. 12866.

2. Notwithstanding any other provision of law, no person is required to respond to nor be subject to a penalty for failure to comply with a collection of information, subject to the requirements of the Paperwork Reduction Act of 1995 (44 U.S.C. 3501 et seq.) (PRA), unless that collection of information displays a currently valid Office of Management and Budget (OMB) Control Number. This regulation involves collections previously approved by the OMB under control numbers 0694-0088, “Multi-Purpose Application,” which carries a burden hour estimate of 58 minutes to prepare and submit form BIS-748. Burden hours associated with the Paperwork Reduction Act and Office and Management and Budget control number 0694-0088 are not impacted by this regulation.

3. This rule does not contain policies with federalism implications as that term is defined under Executive Order 13132.

4. The provisions of the Administrative Procedure Act (5 U.S.C. 553) requiring notice of proposed rulemaking, the opportunity for public participation, and a delay in effective date, are inapplicable because this regulation involves a military and foreign affairs function of the United States (Sec. 5 U.S.C. 553 (a)(1)). Further, no other law requires that a notice of proposed rulemaking and an opportunity for public comment be given for this final rule. Because a notice of proposed rulemaking and an opportunity for public comment are not required to be given for this rule under 5 U.S.C. 553 or by any other law, the analytical requirements of the Regulatory Flexibility Act (5 U.S.C. 601 et seq.) are not applicable. Therefore, this regulation is issued in final form. Although there is no public comment period, public comments on this regulation are welcome on a continuing basis. Comments should be submitted to Sheila Quarterman, Regulatory Policy Division, Bureau of Industry and Security, Department of Commerce, P.O. Box 273, Washington, DC 20044.

List of Subjects in 15 CFR Part 744

Exports, Reporting and recordkeeping requirements, Terrorism.

Accordingly, part 744 of the Export Administration Regulations (15 CFR parts 730-799) is amended as follows:

PART 744—[AMENDED]

1. The authority citation for part 744 continues to read as follows:

Authority: 50 U.S.C. app. 2401 et seq.; 50 U.S.C. 1701 et seq.; 22 U.S.C. 3201 et seq.; 42 U.S.C. 2139a; Sec. 901-911, Pub. L. 106-387; Sec. 221, Pub. L. 107-56; E.O. 12058, 43 FR 20947, 3 CFR, 1978 Comp., p. 179; E.O. 12851, 58 FR 33181, 3 CFR, 1993 Comp., p. 608; E.O. 12938, 59 FR 59099, 3 CFR, 1994 Comp., p. 950; E.O. 12947, 60 FR 5079, 3 CFR, 1995 Comp., p. 356; E.O. 13026, 61 FR 58767, 3 CFR, 1996 Comp., p. 228; E.O. 13099, 63 FR 45167, 3 CFR, 1998 Comp., p.208; E.O. 13222, 66 FR 44025, 3 CFR, 2001 Comp., p. 783; E.O. 13224, 66 FR 49079, 3 CFR, 2001 Comp., p. 786; Notice of October 29, 2003, 68 FR 62209, 3 CFR, 2003 Comp., p. 347; Notice of August 6, 2004, 69 FR 48763 (August 10, 2004).

§ 744.1 [Amended]

2. Section 744.1 is amended by removing from paragraph (a)(1) the sentence “Section 744.16 prohibits exports and reexports by U.S. persons of items subject to the EAR to persons designated pursuant to Executive Order 13088, as amended by Executive Order 13192, including Slobodan Milosevic, his close associates, and persons determined to be under open indictment by the International Criminal Tribunal for the former Yugoslavia.”

§ 744.16 [Removed and reserved]

3. Part 744 is amended by removing and reserving § 744.16.

Dated: November 2, 2004.
Peter Lichtenbaum,
Assistant Secretary for Export Administration.

[FR Doc. 04-25143 Filed 11-10-04; 8:45 am]

BILLING CODE 3510-33-P